DEPARTMENT OF STATE

[Public Notice 3785]

Exchange Visitor Program Designation Staff, Bureau of Educational and Cultural Affairs; 60-Day Notice of Proposed Information Collection: Form DS-2019, Certificate of Eligibility for Exchange Visitor (J-1) Status (Formerly USIA Collection 3116-2015, Forms IAP-66 and IAP-66P) OMB #1405-0119

ACTION: The Department of State is seeking Office of Management and Budget (OMB) approval for the information collection described below. The purpose of this notice is to allow 60 days for public comment in the Federal Register preceding submission to OMB. This process is conducted in accordance with the Paperwork Reduction Act of 1995. Comments should be submitted to OMB within 30 days of the publication of this notice. The following summarizes the information collection proposal submitted to OMB:

Type of Request: Comment.

Originating Office: Exchange Visitor Program Designation Staff, Bureau of Educational and Cultural Affairs (ECA/EC/ECD).

Title of Information Collection: Certificate of Eligibility for Exchange Visitor (J-1) Status.

Frequency: Annually.

Form Number: DS-2019 (Formerly U.S. Information Agency's Form IAP-66).

Respondents: Department of State designated program sponsors.

Estimated Number of Respondents: 1,500.

Average Hours Per Response: 15 minutes.

Total Estimated Burden: 375 hours.

Public comments are being solicited to permit the Department to:

—Evaluate whether the proposed information collection is necessary for the proper performance of the functions of the Department, including whether the information will have practical utility.

—Evaluate the accuracy of the Department's estimate of the burden of the proposed collection, including the validity of the methodology and assumptions used.

—Enhance the quality, utility, and clarity of the information to be collected.

—Minimize the reporting burden on those who are to respond, including through the use of automated collection techniques or other forms of technology.

For Additional Information: Public comments, or requests for additional information, regarding the collection listed in this notice should be directed to Vicki Rose, Exchange Visitor Program Designation Staff (ECA/EC/ECD), Office of Exchange Coordination and Designation, Bureau of Educational and Cultural Affairs, U.S. Department of State, 301 Fourth Street, SW., Room 734, Washington, DC 20547; telephone: 202-401-9810.

Dated: August 14, 2001.
James D. Whitten,
Executive Director, Bureau of Educational and Cultural Affairs, Department of State.

[FR Doc. 01-23485 Filed 9-19-01; 8:45 am]

BILLING CODE 4710-05-P